DEPARTMENT OF THE INTERIOR

Bureau of Land Management

[WO-350-1430-EQ-01-24 1A]

Information Collections Submitted to the Office of Management and Budget Under the Paperwork Reduction Act

The Bureau of Land Management (BLM) has submitted the proposed collection of information listed below to the Office of Management and Budget (OMB) for approval under the provisions of the Paperwork Reduction Act (44 U.S.C. 3501 et seq.). On December 11, 2000, the BLM published a notice in the Federal Register (65 FR 77386) requesting comments on this proposed collection. The comment period ended on February 9, 2001. The BLM received no comments from the public in response to that notice. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Officer (1004-0009), Office of Information and Regulatory Affairs, Washington, DC 20503. Please provide a copy of your comments to the Bureau Information Collection Clearance Officer (WO-630), 1849 C St., NW, Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Land Use Application and Permit (43 CFR 2920).

OMB Approval Number: 1004-0009.

Bureau Form Number: 2920-1.

Abstract: The Bureau of Land Management uses the information to allow State and local governments and private citizens to use, occupy, or develop the public lands under certain conditions. BLM may authorize land uses for agriculture development, residential uses, recreation concessions and business, industrial and commercial uses.

Frequency: Once.

Description of Respondents: Individuals, State and local governments and private citizens.

Estimated Completion Time: Varies from 1 to 120 hours.

Annual Responses: 641.

Cost Recovery Fee Per Response: Could average 0 to $500 (depending on cost recovery fees for processing similar applications, applications that result in a rental that is greater than $250 annually, and the schedule at 43 CFR 2808.3-1.) There is no filing fee.

Annual Burden Hours: 3,140.

Bureau Clearance Officer: Michael Schwartz, (202) 452-5033.

Dated: August 23, 2001.
Michael H. Schwartz,
BLM Information Collection Clearance Office.

[FR Doc. 01-22031 Filed 8-30-01; 8:45 am]

BILLING CODE 4310-84-M